Title 3—

The President

Executive Order 13474 of September 26, 2008

Amendments to Executive Order 12962

By the authority vested in me as President by the Constitution and the laws of the United States of America, and in order to conserve, restore, and enhance aquatic systems to provide for increased recreational fishing opportunities nationwide, it is hereby ordered as follows:

Section 1. Executive Order 12962 of June 7, 1995, is hereby amended: (a) in the preamble, by striking “and the Magnuson Fishery Conservation and Management Act (16 U.S.C 1801-1882)” and inserting before “, and other pertinent statutes,” the following:

“the National Marine Sanctuaries Act of 1972 (16 U.S.C. 1431 et seq.), the National Wildlife Refuge System Administration Act of 1966 (16 U.S.C. 668dd-ee), the National Park Service Organic Act (16 U.S.C. 1 et seq.), the National Historic Preservation Act (16 U.S.C. 470 et seq.), Wilderness Act (16 U.S.C. 1131 et seq.), the Magnuson-Stevens Fishery Conservation and Management Act (16 U.S.C. 1801 et seq.), the Coastal Zone Management Act (16 U.S.C. 1451 et seq.), the Outer Continental Shelf Lands Act (43 U.S.C. 1331 et seq.)”; and

(b) by redesignating subsections (d) through (i) in section 1 as subsections (e) through (j), respectively, and inserting after subsection (c) the following new subsection:

“(d) ensuring that recreational fishing shall be managed as a sustainable activity in national wildlife refuges, national parks, national monuments, national marine sanctuaries, marine protected areas, or any other relevant conservation or management areas or activities under any Federal authority, consistent with applicable law;”.

Sec. 2. This order is not intended to, and does not, create any right or benefit, substantive or procedural, enforceable at law or in equity, by any party against the United States, its agencies, instrumentalities, or entities, its officers, employees, or agents, or any other person.

THE WHITE HOUSE,

September 26, 2008

[FR Doc. E8-23235

Filed 9-30-08; 8:45 am]

Billing code 3195-01-P